DEPARTMENT OF HEALTH AND HUMAN SERVICES

Food and Drug Administration

[FDA 224-04-8000]

Memorandum of Understanding Between the Food and Drug Administration and the National Library of Medicine, National Institutes of Health

AGENCY: Food and Drug Administration, HHS.

ACTION: Notice.

SUMMARY: The Food and Drug Administration (FDA) is providing notice of a memorandum of understanding (MOU) between FDA and the National Library of Medicine, National Institutes of Health (NIH) to transfer an initial lot of records and arrange the future transfer of similar records on a continual basis.

DATES: The agreement became effective December 23, 2003.

FOR FURTHER INFORMATION CONTACT: John Swann, Office of Regional Operations (HF-10), Food and Drug Administration, 5600 Fishers Lane, Rockville, MD 20857, 301-827-3756.

SUPPLEMENTARY INFORMATION: In accordance with 21 CFR 20.108(c), which states that all written agreements and MOUs between FDA and others shall be published in the Federal Register, the agency is publishing notice of this MOU.

Dated: February 2, 2004.
Jeffrey Shuren,
Assistant Commissioner for Policy.

BILLING CODE 4160-01-S

[FR Doc. 04-2905 Filed 2-10-04; 8:45 am]

BILLING CODE 4160-01-C